DEPARTMENT OF EDUCATION

Office of Postsecondary Education; Call for Written Third-Party Comments

AGENCY: Accreditation Group, Office of Postsecondary Education, U.S. Department of Education.

ACTION: Call for written third-party comments.

SUMMARY: This notice provides information to members of the public on submitting written comments for accrediting agencies currently undergoing review for purposes of recognition by the U.S. Secretary of Education.

FOR FURTHER INFORMATION CONTACT: Herman Bounds, Director, Accreditation Group, Office of Postsecondary Education, U.S. Department of Education, 400 Maryland Avenue SW, Room 270-01, Washington, DC 20202, telephone: (202) 453-7615, or email: herman.bounds@ed.gov.

SUPPLEMENTARY INFORMATION: This solicitation of third-party comments concerning the performance of accrediting agencies under review by the Secretary of Education is required by § 496(n)(1)(A) of the Higher Education Act (HEA) of 1965, as amended. These accrediting agencies will be on the agenda for the Summer 2020 National Advisory Committee on Institutional Quality and Integrity (NACIQI) meeting. The meeting date has not been determined but will be announced in a separate Federal Register notice.

Agencies Under Review and Evaluation

Below is a list of agencies currently undergoing review and evaluation by the Department's Office of Postsecondary Education Accreditation Group, including each agency's current scope of recognition, which are scheduled to appear at the Summer 2020 meeting of NACIQI, for which dates have not yet been determined.

Application for Renewal of Recognition (State Agency for the Approval of Vocational Education)

1. Puerto Rico State Agency for the Approval of Public Postsecondary Vocational, Technical Institutions and Programs.

Application for Renewal of Recognition (State Agency for the Approval of Nurse Education)

1. New York State Board of Regents, State Education Department, Office of the Professions (Nursing Education).

2. Missouri State Board of Nursing.

Application for Granting of Academic (Masters and Doctoral) Degrees by Federal Agencies and Institutions

1. National Intelligence University: Undergoing Substantive Change (Reorganization/Command Change).

2. U.S. Army Command and General Staff College: Undergoing Substantive Change (Curriculum Change).

Compliance Report

1. Accrediting Council for Independent Colleges and Schools compliance report includes findings of noncompliance with the criteria in 34 Code of Federal Regulations (CFR) § 602 as referenced in the Decision of the Secretary (Docket No. 16-44-0) available at https://opeweb.ed.gov/e-Recognition/PublicDocuments under NACIQI meeting date: 06/23/2016 for ACICS. Scope of Recognition: The accreditation of private postsecondary institutions offering certificates or diplomas, and postsecondary institutions offering associate, bachelor's, or master's degrees in programs designed to educate students for professional, technical, or occupational careers, including those that offer those programs via distance education.

Submission of Written Comments Regarding a Specific Accrediting Agency or State Approval Agency Under Review

Written comments about the recognition of a specific accrediting or State agency must be received by April 1, 2020,in the ThirdPartyComments@ed.gov mailbox and include the subject line “Written Comments: (agency name).” The email must include the name(s), title, organization/affiliation, mailing address, email address, and telephone number of the person(s) making the comment. Comments should be submitted as a Microsoft Word document or in a medium compatible with Microsoft Word (not a PDF file) that is attached to an electronic mail message (email) or provided in the body of an email message. Comments about an agency that has submitted a compliance report scheduled for review by the Department must relate to the criteria for recognition cited in the senior Department official's letter that requested the report, or in the Secretary's appeal decision, if any. Comments about an agency that has submitted a petition for renewal of recognition must relate to the agency's compliance with the Criteria for the Recognition of Accrediting Agencies, or the Criteria and Procedures for Recognition of State Agencies for the Approval of Vocational and Nurse Education as appropriate, which are available at http://www.ed.gov/admins/finaid/accred/index.html.

Only written material submitted by the deadline to the email address listed in this notice, and in accordance with these instructions, become part of the official record concerning agencies scheduled for review and are considered by the Department and NACIQI in their deliberations.

A later Federal Register notice will describe how to register to provide oral comments at the Summer 2020 meeting regarding the recognition of a specific accrediting agency or State approval agency.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Robert L. King,
Assistant Secretary for Postsecondary Education.

[FR Doc. 2020-04410 Filed 3-3-20; 8:45 am]

BILLING CODE P